DEPARTMENT OF ENERGY

Federal Energy Regulatory Commission

[Docket No. RP96-383-044]

Dominion Transmission, Inc.; Notice of Negotiated Rate

October 30, 2002.

Take notice that on October 25, 2002, Dominion Transmission, Inc. (DTI) filed with the Commission the following tariff sheets for disclosure of a recently negotiated rate transaction:

Second Revised Sheet No. 1406

DTI also reserves for future use the following tariff sheets:

Sheet No. 1401

Sheet No. 1402

Sheet No. 1403

Sheet No. 1405

DTI states that copies of its letter of transmittal and enclosures have been served upon DTI's customers and interested state commissions.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport @ferc.gov or toll-free at (866) 208-3676, or for TTY, contact (202) 502-8659. Comments, protests and interventions may be filed electronically via the Internet in lieu of paper. The Commission strongly encourages electronic filings. See, 18 CFR 385.2001(a)(1)(iii) and the instructions on the Commission's Web site under the “e-Filing” link

Linwood A. Watson, Jr.,
Deputy Secretary.

[FR Doc. 02-28183 Filed 11-4-02; 8:45 am]

BILLING CODE 6717-01-P